DEPARTMENT OF HEALTH AND HUMAN SERVICES

Health Resources and Services Administration

Statement of Organization, Function, and Delegations of Authority; Correction

AGENCY: Health Resources and Services Administration (HRSA), Department of Health and Human Services.

ACTION: Notice; correction.

SUMMARY: HRSA published a document in the Federal Register of August 31, 2021, amending the Statement of Organization, Functions, and Delegations of Authority. The document contained an incorrect administrative code under RE; Office of Intergovernmental and External Affairs. Delete administrative code RE10 and replace with REX for the Seattle Regional Office.

FOR FURTHER INFORMATION CONTACT: Georgia Lyons, Director, Division of HR Policy and Technology, Office of Human Resources, Office of Operations, HRSA, 5600 Fishers Lane, Room 12N42, Rockville, MD 20853, 301-443-5895, askhr@hrsa.gov.

SUPPLEMENTARY INFORMATION:

Correction

In the Federal Register of August 31, 2021, FR Doc. 2021-18075, page 48740, column 3, section RE.10, paragraph 2, correct Seattle Regional Office (RE10) to read Seattle Regional Office (REX).

Amy P. McNulty,
Deputy Director, Executive Secretariat.

[FR Doc. 2023-13587 Filed 6-26-23; 8:45 am]

BILLING CODE 4165-15-P